OFFICE OF PERSONNEL MANAGEMENT

[OMB Control No. 3206-0131]

Revision of Information Collection: Combined Federal Campaign Applications

AGENCY: U.S. Office of Personnel Management.

ACTION: 30-Day notice and request for comments.

SUMMARY: In accordance with the Paperwork Reduction Act of 1995 (Pub. L. 104-13, May 22, 1995), this notice announces that the Office of Personnel Management intends to submit to the Office of Management and Budget (OMB) a request for clearance to revise an information collection. Combined Federal Campaign Applications, OMB Control No. 3206-0131, which include OPM Forms 1647-A, -B, and -E, are used to review the eligibility of national, international, and local charitable organizations and Department of Defense morale, welfare, and recreation (MWR)/Family Support and Youth Activities/Programs (FSYA/FSYP) organizations that wish to participate in the Combined Federal Campaign. The proposed revisions reflect changes in eligibility guidance from the Office of Personnel Management. On March 10, 2016, we published a 60-day notice and request for comments. We received two comments recommending the addition of a “thank you statement” field that would facilitate immediate acknowledgement of electronic pledges. This recommended revision is included below.

We estimate 20,500 responses to this information collection annually. Each form takes approximately three hours to complete. The annual estimated burden is 40,500 hours.

DATES: Comments are encouraged and will be accepted until September 23, 2016. This process is conducted in accordance with 5 CFR 1320.1.

ADDRESSES: Interested persons are invited to submit written comments on the proposed information collection to the Office of Information and Regulatory Affairs, Office of Management Budget, 725 17th Street NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management Budget, 725 17th Street NW., Washington, DC 20503, Attention: Desk Officer for the Office of Personnel Management or sent via electronic mail to oira_submission@omb.eop.gov or faxed to (202) 395-6974.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Combined Federal Campaign (CFC) is the world's largest and most successful annual workplace philanthropic giving campaign, with 127 CFC campaigns throughout the country and overseas raising millions of dollars each year. The mission of the CFC is to promote and support philanthropy through a program that is employee focused, cost-efficient, and effective in providing all federal employees the opportunity to improve the quality of life for all.

The CFC charity applications collect information from about 20,500 national, international, and local charities for inclusion on the CFC charity list. This ICR is being revised to accommodate presentation in an online CFC charity application format. Revisions include:

1. The addition of name and email fields for CFC application system account creation;

2. the inclusion of electronic fund transfer (EFT) information (for national and international charities);

3. the addition of a “thank you statement” field to facilitate immediate acknowledgement of electronic pledges;

4. the addition of three questions surrounding volunteers opportunities and solicitation of federal employees for these opportunities;

5. design of the schedule of services to align with an online form; and

6. revision of certification statements to make them parallel with eligibility requirements at 5 CFR 950 as revised April 16, 2014, effective January 1, 2017.

U.S. Office of Personnel Management.
Beth F. Cobert,
Acting Director.

[FR Doc. 2016-20190 Filed 8-23-16; 8:45 am]

BILLING CODE 6325-46-P